DEPARTMENT OF ENERGY

Energy Information Administration

Agency Information Collection Proposed Extension

AGENCY: U.S. Energy Information Administration (EIA), Department of Energy (DOE).

ACTION: Notice.

SUMMARY: EIA invites public comment on the proposed three-year extension, with changes, to the Natural Gas Data Collection Program, OMB Control Number 1905-0175, as required under the Paperwork Reduction Act of 1995. The surveys covered by this request include; Form EIA-176, Annual Report of Natural and Supplemental Gas Supply and Disposition; Form EIA-191, Monthly Underground Natural Gas Storage Report; Form EIA-191L, Monthly Liquefied Natural Gas Storage Report; Form EIA-757, Natural Gas Processing Plant Survey; Form EIA-857, Monthly Report of Natural Gas Purchases and Deliveries to Consumers; Form EIA-910, Monthly Natural Gas Marketer Survey; and Form EIA-912, Weekly Natural Gas Storage Report. The Natural Gas Data Collection Program provides information on natural gas storage, supply, processing, distribution, consumption, and prices, by sector, within the United States.

DATES: EIA must receive all comments on this proposed information collection no later than May 16, 2024. If you anticipate any difficulties in submitting your comments by the deadline, contact the email address listed in the ADDRESSES section of this notice as soon as possible.

ADDRESSES: Written comments and recommendations for the proposed information collection should be sent within 30 days of publication of this notice to www.reginfo.gov/public/do/PRAMain. You can find this particular information collection by selecting “Currently under 30-day Review—Open for Public Comments” or by using the search function.

FOR FURTHER INFORMATION CONTACT: If you need additional information, contact Michael Kopalek, U.S. Energy Information Administration, by phone at (202) 586-4001 or by email at Michael.Kopalek@eia.gov. The forms and instructions are available on EIA's website at www.eia.gov/survey/.

SUPPLEMENTARY INFORMATION: This information collection request contains:

(1) OMB No.: 1905-0175;

(2) Information Collection Request Title: Natural Gas Data Collection Program.

(3) Type of Request: Three-year extension with changes.

(4) Purpose: The surveys included in the Natural Gas Data Collection Program collect information on natural gas storage, supply, processing, transmission, distribution, consumption by sector, and consumer prices. The data collected supports public policy analyses and produces estimates of the natural gas industry. The statistics generated from these surveys are published on EIA's website, https://www.eia.gov, and are used in various EIA information products, including the Weekly Natural Gas Storage Report (WNGSR), Natural Gas Monthly (NGM), Natural Gas Annual (NGA), Monthly Energy Review (MER), Short-Term Energy Outlook (STEO), and Annual Energy Outlook (AEO).

(4a) Proposed Changes to Information Collection:

Form EIA-176, Annual Report of Natural and Supplemental Gas Supply and Disposition

Form EIA-176 collects data on natural, synthetic, and supplemental gas supplies, their disposition, and certain revenues by state. EIA considers volumes of blended hydrogen to fall under the purview of current Form EIA-176, and as such will instruct respondents to report them on Line 6.0, “Supplemental Gaseous Fuel Supplies,” under the sub-header “Other.” During the previous collection package, EIA modified the survey instructions to include Renewable Natural Gas (RNG) producers who inject high-Btu RNG into an interstate pipeline, intra-state pipeline, or natural gas distribution company system. As such, EIA requests an increase in respondent count and burden to accommodate the addition of new respondents to the survey frame.

Form EIA-757, Natural Gas Processing Plant Survey

Form EIA-757 collects information on the capacity, status, and operations of natural gas processing plants, and monitors constraints to natural gas supplies during catastrophic events, such as hurricanes. Schedule A of Form EIA-757 collects baseline operating and capacity information from all respondents on a triennial basis or less frequently. Schedule B is used on an emergency standby basis and may be activated during natural disasters or other energy disruptions. Schedule B collects data from a sample of respondents in the affected areas.

EIA proposes to discontinue collection of Form EIA-757 Schedule A, and burden hours have been adjusted downward accordingly. EIA has investigated potential consolidation of the EIA-757 Schedule A survey with another, more frequent natural gas processing plant survey, the EIA-64A Survey (OMB number 1905-0057). As a result of this, EIA proposes that the EIA-64A Survey will absorb several key data items from the EIA-757 Schedule A Survey in order to reduce overall respondent burden and eliminate duplicative data collection efforts.

EIA-757 Schedule B is a standby survey to be used in instances of a natural disaster or incident resulting in widespread closures of natural gas processing plants. Since the agency has not used the survey at any point in the last six years, EIA is reducing the requested burden hours by 50% to allow its use once every three years, rather than twice every three years.

Form EIA-857, Monthly Report of Natural Gas Purchases and Deliveries to Consumers

Form EIA-857 collects monthly data on the volumes of natural gas delivered to consumers by end-use sector and by state, as well as certain associated revenues and heat content. EIA is increasing the requested burden to accommodate increased sample coverage, parallel to the increased scope of the EIA-176, the universe from which this survey's sample is drawn.

Form EIA-912, Weekly Natural Gas Storage Report

Form EIA-912 collects information on weekly inventories of natural gas in underground storage facilities. EIA is slightly decreasing the requested burden to more accurately reflect demonstrated sample sizes over the past six years.

Form EIA-191, Monthly Underground Natural Gas Storage Report

Form EIA-191 collects information on monthly inventories of natural gas in underground storage, as well as storage facility information. EIA is updating the instructions to clarify that respondent contact information collected in Part 1 of the survey form is not considered public information.

Form EIA-191L, Monthly Liquefied Natural Gas Storage Report

Form EIA-191L collects information on monthly inventories of liquefied natural gas (LNG) in aboveground storage, as well as LNG storage facility information. EIA is updating the instructions to clarify that respondent contact information collected in Part 1 of the survey form is not considered public information.

Form EIA-910, Monthly Natural Gas Marketer Survey Has No Changes

(5) Annual Estimated Number of Respondents: 3,045;

(6) Annual Estimated Number of Total Responses: 16,087;

(7) Annual Estimated Number of Burden Hours: 56,916;

(8) Annual Estimated Reporting and Recordkeeping Cost Burden: $5,188,463 (56,916 burden hours times $91.16 per hour.)

EIA estimates that respondents will have no additional costs associated with the surveys other than the burden hours and the maintenance of the information during the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b) and 42 U.S.C. 7101 et seq.

Signed in Washington, DC, on April 11, 2024.
Samson A. Adeshiyan,
Director, Office of Statistical Methods and Research, U.S. Energy Information Administration.

[FR Doc. 2024-08062 Filed 4-15-24; 8:45 am]

BILLING CODE 6450-01-P